DEPARTMENT OF COMMERCE

Foreign-Trade Zones Board

[B-9-2021]

Foreign-Trade Zone (FTZ) 18—San Jose, California; Notification of Proposed Production Activity; Enovix Corporation (Lithium Ion Metal Batteries), Fremont, California

Enovix Corporation (Enovix) submitted a notification of proposed production activity to the FTZ Board for its facility in Fremont, California. The notification conforming to the requirements of the regulations of the FTZ Board (15 CFR 400.22) was received on February 10, 2021.

The Enovix facility is located within Subzone 18K. The facility is used for the production of lithium ion metal batteries. Pursuant to 15 CFR 400.14(b), FTZ activity would be limited to the specific foreign-status materials and components and specific finished product described in the submitted notification (as described below) and subsequently authorized by the FTZ Board.

Production under FTZ procedures could exempt Enovix from customs duty payments on the foreign-status components used in export production. On its domestic sales, for the foreign-status materials/components noted below, Enovix would be able to choose the duty rates during customs entry procedures that apply to lithium ion metal single cell batteries (3.0-5.0 volts) (duty rates, 2.7% or 3.4%). Enovix would be able to avoid duty on foreign-status components which become scrap/waste. Customs duties also could possibly be deferred or reduced on foreign-status production equipment.

The components and materials sourced from abroad include: lithium foil; alumina powder; toluene; N-methylpyrrolidone solvent; adhesive; electrolytes; ethylene copolymers; polyvinylidene fluoride/polyvinylidene difluoride (PVDF) fluoropolymer; epoxide resin; self-adhesive polyimide plastic tape; separators (polyethylene plastic film); polypropylene/polyethylene plastic film; polypropylene plastic pouches; stainless steel dye cuts; copper wire; copper foil; aluminum wire; aluminum block; aluminum tabs; nickel tabs; nickel flag tabs; nickel grommets; coated copper anode electrodes; coated aluminum cathode electrodes; internal stainless steel securing constraints for cells; internal stainless steel endplates; resettable fuses; aluminum busbar; and, copper busbar (duty rate ranges from duty-free to 6.5%). The request also indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is April 5, 2021.

A copy of the notification will be available for public inspection in the “Reading Room” section of the Board's website, which is accessible via www.trade.gov/ftz.

For further information, contact Diane Finver at Diane.Finver@trade.gov or (202) 482-1367.

Dated: February 16, 2021.
Elizabeth Whiteman,
Acting Executive Secretary.

[FR Doc. 2021-03509 Filed 2-19-21; 8:45 am]

BILLING CODE 3510-DS-P